DEPARTMENT OF HEALTH AND HUMAN SERVICES

Centers for Disease Control and Prevention

Disease, Disability, and Injury Prevention and Control Special Emphasis Panel: Program Announcements for Cooperative Agreements Between the Centers for Disease Control and Prevention (CDC)/Agency for Toxic Substances and Disease Registry (ATSDR) and the Association of American Medical Colleges, Program Announcement #00075; Association of Schools of Public Health, Program Announcement #99122; and Association of Teachers of Preventive Medicine, Program Announcement #714

In accordance with section 10(a)(2) of the Federal Advisory Committee Act (Pub. L. 92-463), the CDC announces the following meeting:

Name: Disease, Disability, and Injury Prevention and Control Special Emphasis Panel (SEP): Program Announcements for Cooperative Agreements between CDC/ATSDR, and the Association of American Medical Colleges, Program Announcement #00075; Association of Schools of Public Health, Program Announcement #99122; and Association of Teachers of Preventive Medicine, Program Announcement #714.

Times and Dates: 12 p.m.-12:30 p.m., June 16, 2003. (Open.)

12:30 p.m.-6 p.m., June 16, 2003. (Closed.)

8 a.m.-6 p.m., June 17, 2003. (Closed.)

8 a.m.-2 p.m., June 18, 2003. (Closed.)

Place: Westin Atlanta North, 7 Concourse Parkway, NE., Atlanta, GA 30328, Telephone 770.395.3900.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to Program Announcements #00075, 99122, and 714.

Contact Person for More Information: Joan F. Karr, Ph.D., Scientific Review Administrator, Public Health Practice Program Office, CDC, 4770 Buford Highway, MS-K38, Atlanta, GA 30341, Telephone 770.488.2597.

The Director, Management Analysis and Services Office, has been delegated the authority to sign Federal Register notices pertaining to announcements of meetings and other committee management activities, for both the Centers for Disease Control and Prevention and the Agency for Toxic Substances and Disease Registry.

Dated: May 27, 2003.
Alvin Hall,
Director, Management Analysis and Services Office, Centers for Disease Control and Prevention (CDC).

[FR Doc. 03-13655 Filed 5-29-03; 8:45 am]

BILLING CODE 4163-18-P